OFFICE OF SCIENCE AND TECHNOLOGY POLICY OFFICE

National Nanotechnology Initiative Strategic Plan; National Science and Technology Council; National Nanotechnology Coordination Office

AGENCY: Executive Office of the President, Office of Science and Technology Policy.

ACTION: Request for public comment.

SUMMARY: The National Science and Technology Council; Committee on Technology; Nanoscale Science, Engineering, and Technology Subcommittee requests public comments on the draft 2014 National Nanotechnology Initiative (NNI) Strategic Plan. The draft plan will be posted at www.nano.gov/2014strategy. Comments of approximately one page or less in length (4,000 characters) are requested and must be received by December 17, 2013 to be considered.

DATES: Comments must be received by 11:59 p.m. EST on December 17, 2013.

ADDRESSES: Respondents are encouraged to submit their comments (4,000 characters or less) through one of the following methods. Please reference page and line numbers in your response, as appropriate Submission via the Web site is the preferred method of submission. Please do not include in your comments information of a confidential nature, such as sensitive personal information or proprietary information. Responses to this notice are not offers and cannot be accepted by the Federal Government to form a binding contract or issue a grant. Information obtained as a result of this notice may be used by the Federal Government for program planning on a non-attribution basis. Do not include any information that might be considered proprietary or confidential. Please be aware that your comments may be posted online.

• Web site: www.nano.gov/2014strategy.

• Email: 2014NNIStrategy@nnco.nano.gov.

• Postal Mail: Stacey Standridge, ATTN: NNI Strategic Plan Comments, 4201 Wilson Blvd., Stafford II Suite 405, Arlington, VA 22230.

• Fax: (703) 292-9312.

SUPPLEMENTARY INFORMATION: The National Nanotechnology Initiative (NNI) Strategic Plan is the framework that underpins the nanotechnology work of the NNI member agencies. It aims to ensure that advances in nanotechnology research and development (R&D) and their applications to agency missions and the broader national interest continue unabated in this still-young field. Its purpose is to facilitate achievement of the NNI vision by laying out targeted guidance for agency leaders, program managers, and the research community regarding planning and implementation of nanotechnology R&D investments and activities.

The NNI is a U.S. Government R&D program of 20 departments and independent agencies working together toward the common vision of a future in which the ability to understand and control matter at the nanoscale level leads to a revolution in technology and industry that benefits society. The combined, coordinated efforts of these agencies have accelerated discovery, development, and deployment of nanotechnology towards agency missions and the broader national interest. Established in 2001, the NNI involves nanotechnology-related activities by the 20 member agencies, 11 of which have budgets for nanotechnology R&D in Fiscal Year (FY) 2014.

The NNI is managed within the framework of the National Science and Technology Council (NSTC), the Cabinet-level council that coordinates science and technology across the Federal government and interfaces with other sectors. The Nanoscale Science, Engineering, and Technology (NSET) Subcommittee of the NSTC coordinates planning, budgeting, program implementation, and review of the NNI. The NSET Subcommittee is composed of senior representatives from agencies participating in the NNI (www.nano.gov/nset).

The NSET Subcommittee has solicited multiple streams of input to inform the development of a revised NNI Strategic Plan. Independent reviews of the NNI by the President's Council of Advisors on Science and Technology and the National Research Council of the National Academies have made specific recommendations for improving the NNI. Additional input has come from the NNI Strategic Planning Stakeholders Workshop in Washington, DC, on June 11-12, 2013 (details available online: www.nano.gov/stakeholderworkshop), as well as in responses to targeted questions that were posted on www.nano.gov/stakeholderworkshop from June 7-June 14, 2013.

The NNI Strategic Plan represents the consensus of the participating agencies as to the high-level goals and priorities of the NNI and specific objectives for at least the next three years. It describes the four overarching goals of the NNI; the major Program Component Areas, established in 2004 and revised in 2013, to broadly track the categories of investments needed to ensure the success of the initiative; and the near-term objectives that will be the concrete steps taken toward collectively achieving the NNI vision and goals. Finally, the plan describes collaborative interagency activities, including five Nanotechnology Signature Initiatives that are a model of specifically targeted and closely coordinated interagency, cross-sector collaboration designed to accelerate innovation in areas of national priority.

FOR FURTHER INFORMATION CONTACT: Any questions about the content of this notice should be sent to 2014NNIStrategy@nnco.nano.gov. Questions and responses may also be sent by mail (please allow additional time for processing) to: Stacey Standridge, ATTN: NNI Strategic Plan Comments, 4201 Wilson Blvd., Stafford II Suite 405, Arlington, VA 22230. Phone: (703) 292-8103, Fax: (703) 292-9312.

Ted Wackler,
Deputy Chief of Staff and Assistant Director.

[FR Doc. 2013-27548 Filed 11-18-13; 8:45 am]

BILLING CODE 3270-F4-P